DEPARTMENT OF THE INTERIOR

Bureau of Land Management

[OR-130-1020-AL; GP8-0193]

Notice of Public Meeting, Eastern Washington Resource Advisory Council Meeting

AGENCY: Bureau of Land Management, U.S. Department of the Interior.

ACTION: Notice of public meeting.

SUMMARY: In accordance with the Federal Land Policy and Management Act of 1976 and the Federal Advisory Committee Act of 1972, the U.S. Department of the Interior, Bureau of Land Management (BLM) Eastern Washington Resource Advisory Council will meet as indicated below.

DATES: Thursday, September 18, 2008, at the Institute for Extended Learning, South Elm Street, Colville, WA 99114.

SUPPLEMENTARY INFORMATION: The meeting will start at 9:30 a.m. and end at approximately 3:30 p.m. It will be open to the public and there will be an opportunity for public comments at 2:30 p.m. Discussion will focus on the status of projects of interest on BLM lands, and identification of topics of concern on the Colville National Forest.

FOR FURTHER INFORMATION CONTACT: Scott Pavey or Sandie Gourdin, BLM, Spokane District, 1103 N. Fancher Rd., Spokane Valley, WA 99212, or call (509) 536-1200.

Dated: August 22, 2008.
Sally Sovey,
Acting District Manager.

[FR Doc. E8-19956 Filed 8-27-08; 8:45 am]

BILLING CODE 4310-33-P